DEPARTMENT OF COMMERCE

U.S. Census Bureau

Proposed Information Collection; Comment Request; Quarterly Financial Report

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before March 19, 2012.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Demetria V. Hanna, U.S. Census Bureau, HQ-6K181, Washington, DC 20233, Telephone (301) 763-6600.

SUPPLEMENTARY INFORMATION:

I. Abstract

The Census Bureau's Quarterly Financial Report program (QFR) is planning to expand to include, along with corporations currently surveyed, additional Services sectors in the scope of collection. The current collection includes the Manufacturing, Mining, Wholesale Trade, Retail Trade, Information, and Professional, Scientific, and Technical Services (excluding legal) sectors. The expanded collection will include the Real Estate and Rental and Leasing, Administrative and Support and Waste Management and Remediation Services, Health Care and Social Assistance, and Accommodation and Food Services sectors.

The QFR forms to be submitted for approval are: The QFR 200 (MT) long form; QFR 201 (MG) short form; and the QFR 300 (S) long form.

The QFR Program has published up-to-date aggregate statistics on the financial results and position of U.S. corporations since 1947. The QFR is a principal economic indicator that also provides financial data essential to the estimation of key Government measures of national economic performance. The importance of this data collection is reflected by the granting of specific authority to conduct the program in Title 13 of the United States Code, Section 91, which requires that financial statistics of business operations be collected and published quarterly. Public Law 109-79 extended the authority of the Secretary of Commerce to conduct the QFR Program under Section 91 through September 30, 2015.

The main purpose of the QFR is to provide timely, accurate data on business financial conditions for use by Government and private-sector organizations and individuals. The primary public users are U.S. Governmental organizations with economic measurement and policymaking responsibilities. In turn, these organizations play a major role in providing guidance, advice, and support to the QFR Program. The primary private-sector data users are a diverse group including universities, financial analysts, unions, trade associations, public libraries, banking institutions, and U.S. and foreign corporations.

II. Method of Collection

The Census Bureau uses two forms of data collection: mail out/mail back paper survey forms, and a secure encrypted Internet data collection system called Centurion. Centurion provides improved quality with automatic data checks and is context-sensitive to assist the data provider in identifying potential reporting problems before submission, thus reducing the need for follow-up. Centurion is completed via the Internet eliminating the need for downloading software and increasing the integrity and confidentiality of the data.

Companies are asked to respond to the survey within 25 days of the end of the quarter for which the data are being requested. Letters and/or telephone calls encouraging participation are directed to companies in the survey sample that have not responded by the designated time.

III. Data

OMB Control Number: 0607-0432.

Form Number: QFR 200 (MT), QFR 201 (MG) and QFR 300 (S).

Type of Review: Regular submission.

Affected Public: Manufacturing corporations with assets of $250 thousand or more Mining, Wholesale Trade, Retail Trade, Information, Professional, Scientific, and Technical Services (excluding legal), Real Estate and Rental and Leasing, Administrative and Support and Waste Management and Remediation Services, Health Care and Social Assistance, and Accommodation and Food Services corporations with assets of $50 million or more.

Estimated Number of Respondents:

Form QFR 200 (MT)—5,000 per quarter = 20,000 annually.

Form QFR 201 (MG)—5,000 per quarter = 20,000 annually.

Form QFR 300 (S)—2,700 per quarter = 10,800 annually.

Total 50,800 annually.

Estimated Time Per Response:

Form QFR 200 (MT)—Average hours: 3.0.

Form QFR 201 (MG)—Average hours: 1.2.

Form QFR 300 (S)—Average hours: 3.0.

Estimated Total Annual Burden Hours: 116,000 hours.

Estimated Total Annual Cost: $3.8 million.

Respondent's Obligation: Mandatory.

Legal Authority: Title 13 U.S.C. 91 and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 11, 2012.
Glenna Mickelson,
Management Analyst, Office of the Chief Information Officer.

[FR Doc. 2012-654 Filed 1-17-12; 8:45 am]

BILLING CODE 3510-07-P